DEPARTMENT OF COMMERCE

National Institute of Standards and Technology

Smart Grid Advisory Committee Meeting

AGENCY: National Institute of Standards and Technology, Department of Commerce.

ACTION: Notice of open meeting.

SUMMARY: The Smart Grid Advisory Committee (SGAC or Committee), will meet in open session on Tuesday, December 18, 2012 from 8:30 a.m. to 5:00 p.m. Eastern time and Wednesday, December 19, 2012 from 8:30 a.m. to 12:00 p.m. Eastern time. The primary purposes of this meeting are to discuss NIST's response to recommendations from the Committee's report and to receive presentations on cybersecurity coordination and the NIST Smart Grid Program Plan. The agenda may change to accommodate Committee business. The final agenda will be posted on the Smart Grid Web site at http://www.nist.gov/smartgrid.

DATES: The SGAC will meet on Tuesday, December 18, 2012 from 8:30 a.m. to 5:00 p.m. Eastern time and Wednesday, December 19, 2012 from 8:30 a.m. to 12:00 p.m. Eastern time. The meeting will be open to the public.

ADDRESSES: The meeting will be held in Lecture Room A, Administration Building, National Institute of Standards and Technology (NIST), 100 Bureau Drive, Gaithersburg, Maryland 20899. Please note admittance instructions under the SUPPLEMENTARY INFORMATION section of this notice.

FOR FURTHER INFORMATION CONTACT: Dr. George W. Arnold, National Coordinator for Smart Grid Interoperability, National Institute of Standards and Technology, 100 Bureau Drive, Mail Stop 8200, Gaithersburg, MD 20899-8200; telephone 301-975-2232, fax 301-975-4091; or via email at nistsgfac@nist.gov.

SUPPLEMENTARY INFORMATION: The Committee was established in accordance with the Federal Advisory Committee Act, as amended, 5 U.S.C. App. The Committee is composed of ten to fifteen members, appointed by the Director of NIST, who were selected for their technical expertise and experience, established records of distinguished professional service, and knowledge of issues affecting Smart Grid deployment and operations. The Committee advises the Director of NIST on carrying out duties authorized by section 1305 of the Energy Independence and Security Act of 2007 (Pub. L. 110-140). The Committee provides input to NIST on Smart Grid standards, priorities, and gaps, on the overall direction, status, and health of the Smart Grid implementation by the Smart Grid industry, and on Smart Grid Interoperability Panel activities, including the direction of research and standards activities. Background information on the Committee is available at http://www.nist.gov/smartgrid/committee.cfm.

Pursuant to the Federal Advisory Committee Act, as amended, 5 U.S.C. App., notice is hereby given that the Smart Grid Advisory Committee (SGAC or Committee) will meet in open session on Tuesday, December 18, 2012 from 8:30 a.m. to 5:00 p.m. Eastern time and Wednesday, December 19, 2012 from 8:30 a.m. to 12:00 p.m. Eastern time. The meeting will be open to the public and held in Lecture Room A, in the Administration Building at NIST in Gaithersburg, Maryland. The primary purposes of this meeting are to discuss NIST's response to recommendations from the Committee's report and to receive presentations on cybersecurity coordination and the NIST Smart Grid Program Plan. The agenda may change to accommodate Committee business. The final agenda will be posted on the Smart Grid Web site at http://www.nist.gov/smartgrid.

Individuals and representatives of organizations who would like to offer comments and suggestions related to the Committee's affairs are invited to request a place on the agenda by submitting their request to Cuong Nguyen at cuong.nguyen@nist.gov or (301) 975-2254 no later than 5:00 p.m. Eastern time, Tuesday, December 11, 2012. On Tuesday, December 18, 2012, approximately one-half hour will be reserved at the end of the meeting for public comments, and speaking times will be assigned on a first-come, first-serve basis. The amount of time per speaker will be determined by the number of requests received, but is likely to be about 3 minutes each. Questions from the public will not be considered during this period. Speakers who wish to expand upon their oral statements, those who had wished to speak but could not be accommodated on the agenda, and those who were unable to attend in person are invited to submit written statements to the Office of the National Coordinator for Smart Grid Interoperability, National Institute of Standards and Technology, 100 Bureau Drive, Mail Stop 8200, Gaithersburg, MD 20899-8200; fax 301-975-4091; or via email at nistsgfac@nist.gov.

All visitors to the NIST site are required to pre-register to be admitted. Anyone wishing to attend this meeting must register by 5:00 p.m. Eastern time, Tuesday, December 11, 2012, in order to attend. Please submit your full name, time of arrival, email address, and phone number to Cuong Nguyen. Non-U.S. citizens must also submit their country of citizenship, title, employer/sponsor, and address. Mr. Nguyen's email address is cuong.nguyen@nist.gov and his phone number is (301) 975-2254.

Dated: November 20, 2012.
Willie E. May,
Associate Director for Laboratory Programs.

[FR Doc. 2012-28876 Filed 11-28-12; 8:45 am]

BILLING CODE 3510-13-P